DEPARTMENT OF TRANSPORTATION

Federal Railroad Administration

49 CFR Part 230

[Docket No. FRA 2005-20044, Notice No. 1]

RIN 2130-AB64

Inspection and Maintenance Standards for Steam Locomotives

AGENCY: Federal Railroad Administration (FRA), Department of Transportation (DOT).

ACTION: Notice of proposed rulemaking (NPRM).

SUMMARY: FRA proposes to correct an inadvertent, small omission from FRA Form 4 (“Boiler Specification Card”) in the Steam Locomotive Inspection and Maintenance Standards. The form is used to record information about inspections of steam locomotive boilers.

DATES: (1) Written comments: Written comments on this NPRM must be submitted by May 19, 2005. Comments received after the date will be considered to the extent possible without incurring additional expense or delay.

(2) Public Hearing: If any person desires an opportunity for oral comment, he or she must notify FRA in writing and specify the basis for the request. FRA will schedule a public hearing in connection with this proceeding if the agency receives a request for a public hearing by May 19, 2005.

ADDRESSES: You may submit comments, identified by DOT DMS Docket No. FRA 2005-20044, by any of the following methods:

Website: http://dms.dot.gov. Follow the submitting comments on the DOT electronic site.

Fax: (202) 493-2251.

Mail: Docket Management Facility, U.S. Department of Transportation, 400 Seventh Street, SW., Nassif Building, Room PL-401, Washington, DC 20590.

Hand Delivery: Room PL-401 on the plaza level of the Nassif Building, 400 Seventh Street, SW., Washington, DC, between 9 a.m. and 5 p.m., Monday through Friday, except Federal holidays.

Federal eRulemaking Portal: Go to http://www.regulations.gov. Follow online instructions for submitting comments.

Instructions: All submissions must include the agency name and docket number or Regulatory Identification Number (RIN) for this rulemaking. Note that all comments received will be posted without change to http://dms.dot.gov, including personal information provided. Please see the “Privacy Act” section under “Regulatory Impact.”

Docket: For access to the docket to read background or comments received, go to http://dms.dot.gov at any time or to Room PL-401 on the plaza level of the Nassif Building, 400 Seventh Street, SW., Washington, DC, between 9 a.m. and 5 p.m., Monday through Friday, except Federal holidays.

FOR FURTHER INFORMATION CONTACT: George Scerbo, Motive Power and Equipment Safety Specialist, 1120 Vermont Avenue, NW., Mail Stop 25, Washington, DC 20590, (202) 493-6249, George.Scerbo@fra.dot.gov; or Melissa L. Porter, Trial Attorney, 1120 Vermont Avenue, NW., Mail Stop 10, Washington, DC 20590, (202) 493-6034, Melissa.Porter@fra.dot.gov.

SUPPLEMENTARY INFORMATION: On November 17, 1999, FRA published a final rule revising the agency's inspection and maintenance standards for steam locomotives (49 CFR part 230). (64 FR 62828). As part of the final rule, FRA included forms in Appendix C to part 230 that railroads operating steam locomotives are required to use in order to comply with the rule. On FRA Form 4 entitled “Boiler Specification Card,” FRA inadvertently omitted three lines in the “Calculations” section that should have been included to record the shearing stress on rivets. The omitted language is as follows:

“Shearing stress on rivets:

Greatest shear stress on rivets in longitudinal seam _____ psi

Location (course #); _____; Seam Efficiency _____ ”

FRA proposes to correct this oversight by adding the above language to Form 4. Because the purpose of Form 4 is to document for FRA the current condition of the boiler and to keep up-to-date documentation of all repairs that have been made to the boiler, this omitted language is necessary on the form so that the current condition of the boiler can be documented accurately.

Although the language was also omitted from the NPRM issued on September 25, 1998 in the proceeding that led to the 1999 final rule amendments to the steam locomotive rule, the omitted language was still intended by FRA to be on Form 4. A review of meeting minutes from the Tourist and Historic Railroads Working Group of FRA's Railroad Safety Advisory Committee, which was tasked with developing recommendations for revising the rule, indicates that there was no substantive discussion about the specific requirements to record the shearing stress on rivets, unlike other issues that were controversial. There was discussion about how to calculate the stress, but not about the recording requirements. In addition, the prior version of the rule required persons and entities to record similar information (i.e., shearing stress on rivets in pounds per square inch). (See, for example, 49 CFR 230.54 (1978)). In all of the meetings and comments, there was no discussion between any parties of eliminating this language from Form 4. Moreover, in a March 18, 2003, letter to FRA, the Secretary of the Engineering Standards Committee for Steam Locomotives states the “[t]he original final drafts [of Form 4] supplied to the FRA and agreed to by the task group contained this section [for ‘Shearing Stress on Rivets’].” The letter requests that the section of the form “be reinstated * * *.”

In light of the foregoing explanation, FRA proposes to amend Form 4 as stated above.

Regulatory Impact

A. Executive Order 12866 and DOT Regulatory Policies and Procedures

This proposed rule has been evaluated in accordance with existing policies and procedures. It is not considered a significant regulatory action under section 3(f) of Executive Order 12866 and, therefore, was not reviewed by the Office of Management and Budget. This proposed rule is not significant under the Regulatory Policies and Procedures of the Department of Transportation. The economic impact of the proposed rule would be minimal to the extent that preparation of a regulatory evaluation is not warranted.

B. Regulatory Flexibility Determination

The Regulatory Flexibility Act of 1980 (5 U.S.C. 601 et seq.) requires a review of rules to assess their impact on small entities. This rule proposes to correct a minor omission from the final rule. Therefore, FRA certifies that proposed rule would not have a significant economic impact on a substantial number of small entities.

C. Federalism

This proposed rule would not have a substantial effect on the States, on the relationship between the national government and the States, or the distribution of power and responsibilities among the various levels of government. Thus, in accordance with Executive Order 13132, preparation of a Federalism assessment is not warranted.

D. Paperwork Reduction Act

There are no new information collection requirements in this proposed rule.

E. Compliance With the Unfunded Mandates Reform Act of 1995

The proposed rule issued today would not result in the expenditure, in the aggregate, of $120,700,000 or more in any one year by State, local, or Indian Tribal governments, or the private sector, and thus preparation of a statement is not required.

F. Environmental Assessment

There would be no significant environmental impacts associated with this proposed rule.

G. Energy Impact

According to definitions set forth in Executive Order 13211, there would be no significant energy action as a result of the issuance of this proposed rule.

H. Privacy Act

Anyone is able to search the electronic form of all comments received in any of our dockets by the name of the individual submitting the comment or (signing the comment, if submitted on behalf of an association, business, labor union, etc.). You may review DOT's complete Privacy Act Statement in the Federal Register published on April 11, 2000 (Volume 65, Number 70; Pages 19477-78) or you may visit http://dms.dot.gov.

Request for Public Comments

FRA proposes to amend Form 4 in Appendix C to 49 CFR Part 230, as set forth below. FRA solicits comments on the NPRM through written submissions. FRA may make changes to the final rule based on comments submitted in response to this proposed rule.

List of Subjects in 49 CFR Part 230

Steam locomotives, Railroad safety, Penalties, Reporting and recordkeeping requirements.

The Proposed Rule

In consideration of the foregoing, FRA proposes to amend chapter II, subtitle B of title 49, Code of Federal Regulations as follows:

PART 230—[AMENDED]

1. The authority citation for part 230 continues to read as follows:

Authority: 49 U.S.C. 20103, 20701, 20702; 28 U.S.C. 2461, note; and 49 CFR 1.49.

2. Appendix C to part 230 is amended by revising “FRA Form 4” to read as follows:

Appendix C to Part 230—FRA Inspection Forms

* * * * *

BILLING CODE 4910-06-U

* * * * *

Issued in Washington, DC, on April 12, 2005.
Robert D. Jamison,
Acting Administrator, Federal Railroad Administration.

[FR Doc. 05-7739 Filed 4-18-05; 8:45 am]

BILLING CODE 4910-06-U